SMALL BUSINESS ADMINISTRATION

National Small Business Development Center Advisory Board; Public Meeting

The U.S. Small Business Administration, National Small Business Development Centers Advisory Board will be hosting a public meeting via conference call to discuss such matters that may be presented by members, the staff of the U.S. Small Business Administration, and interested others. The conference call will be held on Tuesday, July 17, 2007 at 1 p.m. Eastern Standard Time. The purpose of the meeting is to discuss the upcoming Ohio Site Visit and the current draft of the proposed White Paper. Anyone wishing to make an oral presentation to the Board must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-11900 Filed 6-19-07; 8:45 am]

BILLING CODE 8025-01-P